DEPARTMENT OF TRANSPORTATION

National Highway Traffic Safety Administration

[U.S. DOT Docket No. NHTSA-2017-0058]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes the collection of information for which NHTSA intends to seek OMB approval.

DATES: Comments must be received on or before October 30, 2017.

ADDRESSES: You may submit comments identified by DOT Docket ID Number NHTSA-2017-0058 using any of the following methods:

Electronic submissions: Go to http://www.regulations.gov. Follow the on-line instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays. Fax: 1 (202) 493-2251.

Instructions: Each submission must include the Agency name and the Docket number for this Notice. Note that all comments received will be posted without change to http://www.regulations.gov including any personal information provided.

FOR FURTHER INFORMATION CONTACT: Kathryn Wochinger, Contracting Officer's Representative-Task Order, DOT/NHTSA (NPD-310), 1200 New Jersey Avenue SE., W46-487, Washington, DC 20590. Dr. Wochinger's phone number is (202) 366-4300 and her email address is kathryn.wochinger@dot.gov.

SUPPLEMENTARY INFORMATION:

Title: State of the Practice of Interlock Programs.

OMB Clearance Number: None.

Type of Request: New information collection requirement.

Requested Expiration Date of Approval: 5 years from date of approval.

Summary of the Collection of Information: NHTSA seeks to produce a comprehensive document on the state of the practice of alcohol ignition interlock device (IID) programs in the United States. The document will be a resource for IID program administrators, staff and stakeholders working to reduce impaired driving by drivers who have been arrested or convicted of driving while intoxicated (DWI). Every state, the District of Columbia and Puerto Rico has an IID law that provides for or requires DWI offenders to install IIDs on their vehicles, which requires IID program delivery. This project will collect information on IID programs in the nation to identify practices, including promising practices, and lessons learned. Participants will be IID program staff who complete a 15-minute online self-administered survey and participate in a semi-structured interview for approximately one hour.

Description of the Need for the Information and Proposed Use of the Information: NHTSA's mission is to save lives, prevent injuries and reduce traffic-related health care and other economic costs. The agency develops, promotes and implements educational, engineering and enforcement programs with the goal of ending preventable tragedies and reducing economic costs associated with vehicle use and highway travel. Impaired driving is a long-standing highway safety problem. Efforts to reduce impaired driving have resulted in impressive improvements, but impaired driving remains a significant problem. For example, in 2013, there were 10,076 traffic fatalities in crashes involving drivers with a blood alcohol concentration (BAC) of 0.08 grams per deciliter (g/dL) or higher. More recently, there was an increase of 3.2 percent in the number of fatalities in alcohol-impaired-driving crashes from 2014 (9,943) to 2015 (10,265). Highway safety officials and traffic safety advocates identified a need for information on the current state of the practice of IID programs as a means to share lessons learned. The objective of this data collection activity is to produce a document that addresses that need by describing the state of the practice of IID programs across the nation, in each state, the District of Columbia and Puerto Rico. The document will serve as a resource for IID program administrators and staff, policy makers, legislators, researchers and advocates. The outcome of the project will support the states and their federal partners in the effort to reduce impaired driving and prevent the loss of life on the nation's roadways.

Description of the Likely Respondents (Including Estimated Number, and Proposed Frequency of Response to the Collection of Information): The respondents will be from one-to-five designated points-of-contact in the IID program in each state, the District of Columbia, and Puerto Rico. Each program will be invited to complete a 15-minute online survey and participate in one phone conference for approximately one hour. Each participant will respond to the data collection request a single time during the project period.

Total Estimated Time per Response: The expected average completion time for the online survey is 15 minutes per program with up to five individuals completing a portion of the survey. The expected average completion time for the phone conference is 60 minutes per individual.

Estimate of the Total Annual Reporting and Record Keeping Burden Resulting from the Collection of Information— Participants will incur no burden related to annual reporting or record keeping due to the collection of information.

Total Estimated Annual Burden Hours: The estimated burden for the online survey is 13 hours, assuming 52 programs complete the survey. The estimated burden hours for the phone conference ranges from 52 hours to 260 hours, from one to five individuals per IID program.

Authority: 44 U.S.C. Section 3506(c)(2)(A).

Issued in Washington, DC on August 24, 2017.
Jeff Michael,
Associate Administrator, Research and Program Development.

[FR Doc. 2017-18266 Filed 8-28-17; 8:45 am]

BILLING CODE 4910-59-P